ENVIRONMENTAL PROTECTION AGENCY

[EPA-HQ-OW-2008-0719, FRL 9508-7]

Agency Information Collection Activities; Submission to OMB for Review and Approval; Comment Request; National Pretreatment Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before January 23, 2012.

ADDRESSES: Submit your comments, referencing Docket ID No. EPA-HQ-OW-2008-0719, to (1) EPA online using www.regulations.gov (our preferred method), by email to ow-docket@epa.gov. (Identify Docket ID No. EPA-HQ-OW-2008-0719 in the subject line), or by mail to: Water Docket, Environmental Protection Agency, Mailcode: 28221T, 1200 Pennsylvania Ave. NW., Washington, DC 20460 and (2) OMB by mail to: Office of Information and Regulatory Affairs, Office of Management and Budget (OMB), Attention: Desk Officer for EPA, 725 17th Street NW., Washington, DC 20503.

FOR FURTHER INFORMATION CONTACT: Amelia Letnes, State and Regional Branch, Water Permits Division, OWM Mail Code: 4203M, Environmental Protection Agency, 1200 Pennsylvania Ave. NW., Washington, DC 20460; telephone number: (202) 564-5627; fax number: (202) 564-9544; email address: letnes.amelia@epa.gov.

SUPPLEMENTARY INFORMATION: EPA has submitted the following ICR to OMB for review and approval according to the procedures prescribed in 5 CFR 1320.12. On August 25, 2011 (76 FR 53123), EPA sought comments on this ICR pursuant to 5 CFR 1320.8(d). EPA received no comments. Any additional comments on this ICR should be submitted to EPA and OMB within 30 days of this notice.

EPA has established a public docket for this ICR under Docket ID No. EPA-HQ-OW-2008-0719, which is available for online viewing at www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is (202) 566-1744, and the telephone number for the Water Docket is (202) 566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to www.regulations.gov.

Title: National Pretreatment Program (Renewal).

ICR numbers: EPA ICR Number 0002.15, OMB Control Number 2040-0009.

ICR Status: This ICR is scheduled to expire on 12/31/2011. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This ICR calculates the burden and costs associated with managing and implementing the National Pretreatment Program as mandated under CWA sections 402(a) and 402(b) and 307(b). This ICR includes all existing tasks under the National Pretreatment Program, as amended by the EPA's Streamlining Rule.

EPA's Office of Wastewater Management (OWM) in the Office of Water (OW) is responsible for the management of the pretreatment program. The CWA requires EPA to develop national pretreatment standards to control discharges from Industrial Users (IUs) into Publicly-Owned Treatment Works (POTWs). These standards limit the level of certain pollutants allowed in non-domestic wastewater that is discharged to a POTW. EPA administers the pretreatment program through the NPDES permit program. Under the NPDES permit program, EPA may approve State or individual POTW implementation of the pretreatment standards at their respective levels. Data collected from IUs during implementation of the pretreatment program include the mass, frequency, and content of IU discharges and IU schedules for installing pretreatment equipment. Data also include actual or anticipated IU discharges of wastes that violate pretreatment standards, have the potential to cause problems at the POTW, or are considered hazardous under the Resource Conservation and Recovery Act (RCRA). OWM uses the data collected under the pretreatment program to monitor and enforce compliance with the pretreatment regulations, as well as to authorize program administration at the State or Local (POTW) level. States and POTWs applying for approval of their pretreatment programs submit data concerning their legal, procedural, and administrative bases for establishing such programs. This information may include surveys of IUs, local limits for pollutant concentrations, and schedules for completion of major project requirements. IUs and POTWs submit written reports to the approved State or EPA. These data may then be entered into the NPDES databases by the approved State or by EPA.

Burden Statement: The annual public reporting and recordkeeping burden for this collection of information is estimated to average 74.0 hours per respondent per year, or 18.35 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Affected entities: Various industrial categories, publicly owned treatment works (POTWs), Local and State governments.

Estimated total number of potential respondents: 24,411 (36 States, 1,548 POTWs and 22,827 industrial users).

Frequency of response: On occasion, semi-annually, annually.

Estimated total average number of responses for each respondent: 4.

Estimated total annual burden hours: 1,806,517 hours.

Estimated total annual costs: $77,647,536. This includes an estimated burden cost of $75,328,623 and an estimated cost of $2,318,913 for capital investment or maintenance and operational costs.

Change in Burden: There is an increase of 9,430 (0.5%) hours in the total estimated respondent burden compared with that identified in the ICR currently approved by OMB. Most of the increase in burden is attributable to the transfer of the burden associated with Pretreatment Compliance Inspection (PCI) from the NPDES Program ICR (OMB Control No. 2040-0004, EPA ICR No. 0229.20). There are also additional burden increases in other areas. For example, the number of state respondents has increased from 35 to 36, and the number of approved programs has increased to 1,548 from 1,512.

However, the increases in burden are partially offset by a decrease in burden attributable to the decrease in the number of SIUs. EPA revised the estimated number of SIUs and pretreatment programs after extensive consultation with the EPA regions and a thorough examination of PCS data. The revised number of SIUs drives the decrease in respondent burden because SIUs constitute the bulk of respondents. This ICR shows a shift in burden from POTWs to States as a consequence of EPA's updated estimates of SIUs regulated by POTWs and States. However, this is not the result of programmatic changes but simply a reflection of more accurate information about the implementation of the pretreatment program.

Dated: December 16, 2011.
John Moses,
Director, Collection Strategies Division.

[FR Doc. 2011-32961 Filed 12-22-11; 8:45 am]

BILLING CODE 6560-50-P